DEPARTMENT OF THE INTERIOR

National Park Service

[2253-665]

Notice of Inventory Completion: Fowler Museum at UCLA, Los Angeles, CA

AGENCY: National Park Service, Interior.

ACTION: Notice.

SUMMARY: The Fowler Museum at UCLA has completed an inventory of human remains, in consultation with the appropriate Indian tribes, and has determined that there is no cultural affiliation between the human remains and any present-day Indian tribe. Representatives of any Indian tribe that believes itself to be culturally affiliated with the human remains may contact the Fowler Museum at UCLA. Disposition of the human remains to the tribe stated below may occur if no additional requestors come forward.

DATES: Representatives of any Indian tribe that believes it has a cultural affiliation with the human remains should contact the Fowler Museum at UCLA at the address below by July 21, 2011.

ADDRESSES: Wendy G. Teeter, PhD, Curator of Archaeology, Fowler Museum at UCLA, Box 951549, Los Angeles, CA 90095-1549, telephone (310) 825-1864.

SUPPLEMENTARY INFORMATION: Notice is here given in accordance with the Native American Graves Protection and Repatriation Act (NAGPRA), 25 U.S.C. 3003, of the completion of an inventory of human remains in the possession of the Fowler Museum at UCLA, Los Angeles, CA. The human remain was removed from Humboldt County, CA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Fowler Museum at UCLA professional staff in consultation with representatives of the Bear River Band of the Rohnerville Rancheria, California; Blue Lake Rancheria, California; Smith River Rancheria, California; Wiyot Tribe, California (formerly the Table Bluff Reservation—Wiyot Tribe); and the Yurok Tribe of the Yurok Reservation, California. The Wiyot Tribe, California, requested the transfer of control of the individual described in this notice. The Bear River Band of the Rohnerville Rancheria, California, and the Blue Lake Rancheria, California, sent letters of support for the transfer of control to the Wiyot Tribe.

History and Description of the Remains

In the first half of the 20th century, a human remain representing one individual was most likely removed from Eureka, Humboldt County, CA. The human remain is a mandible from a female. It was found in the Bird and Mammal collection of the UCLA Department of Biology and subsequently transferred to the Fowler Museum at UCLA. According to the Bird and Mammal collection accession records, Loye Miller, a biologist who worked in the first half of the 20th century, collected it from an unknown person. The human remain is labeled “W.H.M.M. #313 Eureka, California.” “W.H.M.M.” stands for the Wellcome Historic Medical Museum. A search of the Wellcome archives produced no documentation directly related to this remain and the circumstances surrounding its excavation or collection are unknown. However, the Wellcome Museum did purchase remains from several collectors from the Eureka region. Therefore, it is reasonably believed that this individual was received from one of these collectors and removed from the Humboldt County area. No known individual was identified. No associated funerary objects are present.

Based on the records and condition of the mandible, archeologists have determined that the human remain probably comes from a coastal shell midden and is of fairly late age. The soil in the redwood forest areas of the Humboldt County area is very acidic, and bone does not survive long in the ground. However, the calcium carbonate from the shells in the shell mounds in the coastal areas helps preserve bone, and thus several hundred year-old burials are found in shell mounds in the Eureka area. Loud (1918) recorded shell mound sites in Eureka, on Indian (Gunther) Island and around the margins of Humboldt Bay, most of which have associated Wiyot village place names and burials and have been dated to the Late Prehistoric Period between A.D. 700-1100 (Loud 1918; Heizer & Elsasser 1964; Tushingham 2010).

Determinations Made by the Fowler Museum at UCLA

Officials of the Fowler Museum at UCLA have determined that:

• Based on the analysis performed by a physical anthropologist it is determined that the mandible is Native American.

• Pursuant to 25 U.S.C. 3001(2), a relationship of shared group identity cannot be reasonably traced between the Native American human remains and any present-day Indian tribe.

• Multiple lines of evidence, including the Wiyot Tribe's 1978 Constitution, treaties, Acts of Congress, Executive Orders, and other credible lines of evidence obtained through consultation with tribal representatives, indicate that the land from which the Native American human remain was removed is the aboriginal land of the Wiyot people. Present-day Wiyot citizens are enrolled in the following Federally-recognized tribes: the Wiyot Tribe, California; Bear River Band of the Rohnerville Rancheria, California; and Blue Lake Rancheria, California.

• Pursuant to 25 U.S.C. 3001(9), the human remain described in this notice represents the physical remains of one individual of Native American ancestry.

• Pursuant to 43 CFR 10.11(c)(1), the disposition of the human remain is to the Wiyot Tribe, California.

Additional Requestors and Disposition

Representatives of any Indian tribe that believes itself to be culturally affiliated with the human remains or any other Indian tribe that believes it satisfies the criteria in 43 CFR 10.11(c)(1) should contact Wendy G. Teeter, PhD, Curator of Archaeology, Fowler Museum at UCLA, Box 951549, Los Angeles, CA 90095-1549, telephone (310) 825-1864, before July 21, 2011. Disposition of the human remain to the Wiyot Tribe, California, may proceed after that date if no additional requestors come forward.

The Fowler Museum at UCLA is responsible for notifying the Bear River Band of the Rohnerville Rancheria, California; Blue Lake Rancheria, California; Smith River Rancheria, California; Wiyot Tribe, California; and the Yurok Tribe of the Yurok Reservation, California, that this notice has been published.

Dated: June 15, 2011.
Sherry Hutt,
Manager, National NAGPRA Program.

[FR Doc. 2011-15434 Filed 6-20-11; 8:45 am]

BILLING CODE 4312-50-P